ENVIRONMENTAL PROTECTION AGENCY

Program Requirement Revisions Related to the Public Water System Supervision Programs for the State of New Hampshire, and the Commonwealth of Massachusetts

AGENCY: Environmental Protection Agency (EPA).

ACTION: Notice.

SUMMARY: Notice is hereby given that the Commonwealth of Massachusetts and the State of New Hampshire are in the process of revising their respective approved Public Water System Supervision (PWSS) programs to meet the requirements of the Safe Drinking Water Act (SDWA).

The Commonwealth of Massachusetts has adopted drinking water regulations for the Variances and Exemptions Rule (63 FR 43834-43851) promulgated on August 14, 1988, the Radionuclides Rule (66 FR 76708-76753) promulgated on December 7, 2000, and the Consumer Confidence Rule (63 FR 44511-44536) promulgated on August 19, 1998. After review of the submitted documentation, EPA has determined that the Commonwealth's rules are no less stringent than the corresponding federal regulations. Therefore, EPA intends to approve Massachusetts' PWSS program revision for these rules.

The State of New Hampshire has adopted drinking water regulations for the Public Notification Rule (65 FR 25982-26049) promulgated on May 4, 2000, and the Filter Backwash Recycling Rule (66 FR 31086-311054) promulgated on June 8, 2001. After review of the submitted documentation, EPA has determined that the State's rules are no less stringent than the corresponding federal regulations. Therefore, EPA intends to approve New Hampshire's PWSS program revision for these rules.

DATES: All interested parties may request a public hearing for any of the above EPA determinations. A request for a public hearing must be submitted within thirty (30) days of this Federal Register publication date to the Regional Administrator at the address shown below. Frivolous or insubstantial requests for a hearing may be denied by the Regional Administrator. However, if a substantial request for a public hearing is made by this date, a public hearing will be held. If no timely and appropriate request for a hearing is received, and the Regional Administrator does not elect to hold a hearing on his/her own motion, this determination shall become final and effective 30 days after the publication of this Federal Register Notice. Any request for a public hearing shall include the following information: (1) The name, address, and telephone number of the individual organization, or other entity requesting a hearing; (2) a brief statement of the requesting person's interest in the Regional Administrator's determination; (3) information that the requesting person intends to submit at such hearing; and (4) the signature of the individual making the request, or if the request is made on behalf of an organization or other entity, the signature of a responsible official of the organization or other entity.

ADDRESSES: All documents relating to this determination are available for inspection between the hours of 8:30 a.m. and 4 p.m., Monday through Friday, at the following office(s): U.S. Environmental Protection Agency, Office of Ecosystem Protection, One Congress Street, 11th floor, Boston, MA 02114.

For documents specific to that State: MA Department of Environmental Protection, Division of Water Supply, 1 Winter Street, 6th Floor, Boston, MA 02108.

New Hampshire Department of Environmental Services, Water Supply Engineering Bureau, 29 Hazen Drive, P.O. Box 95, Concord, NH 03302-0095.

FOR FURTHER INFORMATION: Barbara McGonagle, Office of Ecosystem Protection (telephone 617-918-1608).

Authority: Section 1401 (42 U.S.C. 300f) and Section 1413 (42 U.S.C. 300g-2) of the Safe Drinking Water Act, as amended (1996), and (40 CFR 142.10) of the National Primary Drinking Water Regulations.

Dated: May 16, 2007.
Robert W. Varney,
Regional Administrator, EPA—New England.

[FR Doc. 07-3228 Filed 7-3-07; 8:45 am]

BILLING CODE 6560-50-M